DEPARTMENT OF AGRICULTURE

Forest Service

Mission Brush, Bonners Ferry Ranger District, Idaho Panhandle National Forests; Boundary County, ID

AGENCY: Forest Service, USDA.

ACTION: Notice of intent to prepare an environmental impact statement.

SUMMARY: The Bonners Ferry Ranger District of the Idaho Panhandle National Forests is proposing rehabilitation of the vegetation in the Brush Creek and Mission Creek watersheds, identified as the Mission Brush project area. These watersheds are located 14 and 19 miles, respectively, north of Bonners Ferry, Idaho. Priorities are treatment of stands of off-site Ponderosa pine and dry sites, and taking steps to begin restoring the diversity that was found historically in mixed conifer stands. The project, as proposed, will provide additional benefits to the water resources and result in some reduction of fuels adjacent to private property in a portion of the project area. The USDA Forest Service will prepare an environmental impact statement (EIS) to disclose the potential environmental effects of implementing vegetative and aquatic restoration activities on National Forest System lands within the project area.

DATES: Comments, suggestions, or requests to be placed on the project mailing list, should be received on or before April 1, 2003. The draft environmental impact statement is expected to be filed with the Environmental Protection Agency (EPA) and available for public review in April 2002.

ADDRESSES: Submit written comments and suggestions on the proposal or requests to be placed on the project mailing list to Doug Nishek, Project Team Leader, Bonners Ferry Ranger District, Route 4, Box 4860, Bonners Ferry, Idaho 83805-9764, e-mail address: dnishek@fs.fed.us.

FOR FURTHER INFORMATION CONTACT: Doug Nishek, project leader, Bonners Ferry Ranger District, (208) 267-5561, e-mail address: dnishek@fs.fed.us.

SUPPLEMENTARY INFORMATION: The purpose and need for this project is derived from the Land and Resource Management Plan for the Idaho Panhandle National Forests, the Interior Columbia Basin Ecosystem Management Project (ICBEMP), the Northern Region Overview and the Kootenai River basin Geographic Assessment (GA). Findings from these studies document the dense, insect- and disease-prone state of the dry-site ecosystems across the Idaho Panhandle National Forests and the Kootenai River basin. These large-scale analyses describe the changes these ecosystems have undergone over the past century, such as a significant loss in the once-dominant western white pine in northern Idaho. Current conditions are causing concern due to increased wildfire hazard and potential for severe fires. Site-specific information indicates these conditions are present in Mission Creek and Brush Creek watersheds.

Initial assessment identified insect and disease problems placing stands at a high risk of serious losses through tree mortality and the resulting changes in habitat structure. The same is true for stands planted with off-site Ponderosa pine following wildfire in 1945. Lodgepole pine stands are at high risk of mountain pine beetle infestation. Western white pine is no longer a key component of these forests.

Objectives of this project are two-fold, as follows: On dry sites begin restoration of historical vegetative conditions that favored development of large, open-grown stands of ponderosa pine and western larch; and, in the mixed conifer and subalpine forests increase size, species, and age-class diversity through treatments to begin returning western white pine to its historical role and treating lodgepole pine stands at high risk to insects. The management activities would reduce fuel loadings and potential for severe fires on National Forest System lands adjacent to private property in the western portion of the Mission Creek drainage. Water quality and aquatic resources would benefit from reconstruction of portions of roads to reduce the amount of sediment entering streams. There will also be opportunities to improve recreation facilities in the Brush Lake area.

Preliminary issues include forest health, water quality, timber supply and demand, wildlife, fish, and plant species.

The Forest Service will consider a range of alternatives, including the “no action” alternative, under which there would be no change from current management of the area. Additional alternatives will represent a range of strategies to accomplish the goals of this project. The Forest Plan provides guidance for management objectives within the potentially affected area through its goals, objectives, standards and guidelines, and management area direction. Inland Native Fish Strategy guidelines (USDA Forest Service, 1995) supersede Forest Plan guidelines established for riparian areas.

The first public notice of proposed management activities in this area was made in July 1997 for a project identified as Mission Round Prairie environmental assessment (EA). At that time the Forest Service was assessing the conditions and proposing treatments in a larger area that also included Round Prairie Creek, Gillon Creek and Hellroaring Creek watersheds. The Mission Brush project will analyze management strategies in the watersheds identified as high priority through that initial assessment. Based on scoping and changes in Agency direction the Forest Service believes an EIS is the appropriate level of documentation. Members of the public are encouraged to visit with Forest Service officials during the analysis and prior to the decision. Comments provided by the public and other agencies will be used to develop strategies for management of natural resources in the project area. Comments received during the earlier scoping and analysis for the Mission Round Prairie EA will be considered during the environmental analysis for this EIS and will be a part of the public record. People, organizations and agencies on the Mission Round Prairie mailing list will be included in the Mission Brush EIS mailing list. The Forest Service is also seeking information, comments, and assistance from federal, state and local agencies and other individuals or organizations that may be interested in or affected by the proposed actions.

The draft environmental impact statement is expected to be filed with the Environmental Protection Agency (EPA) and available for public review in April 2003. At that time, the EPA will publish a Notice of Availability of the draft environmental impact statement in the Federal Register. The comment period on the draft environmental impact statement will end 45 days from the date the EPA publishes the Notice of Availability in the Federal Register. It is anticipated that a final environmental impact statement will be published in June, 2003. A Record of Decision will also be published at that time.

The Forest Service believes, at this early stage, it is important to give reviewers notice of several court rulings related to public participation to the environmental review process. First, reviewers of draft environmental impact statements must structure their participation in the environmental review of the proposal so that it is meaningful and alerts an agency to the reviewer's position and contentions (Vermont Yankee Nuclear Power Corp. v. NRDC, 435 U.S. 5129,553 (1978)). Also, environmental objections that could be raised at the draft environmental impact statement stage but that are not raised until after completion of the final environmental statement may be waived or dismissed by the courts (City of Angoon v. Hodel, 803 F.2d 1016, 1022 (9th Cir. 1986) and Wisconsin Heritages, Inc., v. Harris, 490 F.Supp. 1334, 1338 (E.D. Wis. 1980)). Because of these court rulings, it is very important that those interested in this proposed action participate by the close of the 45-day comment period so that substantive comments and objections are made available to the Forest Service at a time when it can meaningfully consider them and respond to them in the final environmental impact statement.

To assist the Forest Service in identifying and considering issues and concerns regarding the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

I am the responsible official for this environmental analysis. My address is Idaho Panhandle National Forest, 3815 Schreiber Way, Coeur d'Alene, ID 83814.

Dated: February 24, 2003.
Ranotta McNair,
Forest Supervisor.

[FR Doc. 03-4855 Filed 2-28-03; 8:45 am]

BILLING CODE 3410-121-M